ENVIRONMENTAL PROTECTION AGENCY

[ER-FRL-6607-9]

Environmental Impact Statements; Notice of Availability

Responsible Agency: Office of Federal Activities, General Information, (202) 564-7167 or www.epa.gov/oeca/ofa

Weekly receipt of Environmental Impact Statements

Filed May 29, 2000 Through June 02, 2000

Pursuant to 40 CFR 1506.9.

EIS No. 000170, Draft Supplement, FHW, WA, North Spokane Freeway Project, Improvements Transportation through the City of Spokane and Spokane County between I-90, Spokane County, WA, Due: July 24, 2000, Contact: Gene Fong (360) 753-9480.

EIS No. 000171, Draft EIS, AFS, WY, State of Wyoming School Section 16 T.12N., R.83W., 6th P.M., Issuing a Forest Road Special-Use-Permit for Access, Medicine Bow-Routt National Forests, Brush Creek/Hayden Ranger District, Carbon County, WY, Due: July 24, 2000, Contact: John Baumchen (307) 326-2500.

EIS No. 000172, Final EIS, AFS, MT, Swamp Timber Sales Project, Implementation, Kootenai National Forest, Fortine Ranger District, Lincoln County, MT, Due: July 10, 2000, Contact: Edward C. Monning (406) 882-4451.

EIS No. 000173, Final EIS, AFS, MN, Gunflint Corridor Fuel Reduction, Implementation, Superior National Forest, Gunflint Ranger District, Cook County, MN, Due: July 10, 2000, Contact: Becky Bartol (218) 387-1750.

EIS No. 000174, Draft EIS, SFW, NV, Clark County Multiple Species Habitat Conservation Plan, Issuance of a Permit to Allow Incidental Take-of-79 Species, Clark County, NV, Due: July 24, 2000, Contact: Ben Harrison (503) 231-2068.

EIS No. 000175, Draft EIS, IBR, CA, Colusa Basin Drainage District, Developing an Integrated Resource Management Program for the Control of Flooding, Glenn, Colusa and Yolo Counties, CA, Due: August 25, 2000, Contact: Russ Smith (530) 275-1554.

EIS No. 000176, Draft SUPPLEMENT, UAF, TX, Programmatic EIS—Kelly Air Force Base (AFB), Disposal and Reuse, Implementation, San Antonio County, TX, Due: July 24, 2000, Contact: Jonathan D. Farthing (210) 536-3787.

EIS No. 000177, Draft EIS, GSA, DC, Department of Transportation Headquarters, Proposal to Lease 1.3 to 1.35 Million Rentable Square Feet of Consolidated and Upgraded Space, Five Possible Sites, Located in the Central Employment Area, Washington, DC, Due: July 24, 2000, Contact: John Simeon (202) 260-9586.

Amended Notices

EIS No. 000101, Draft EIS, FAA, NC, Piedmont Triad International Airport, Construction and Operation, Runway 5L/23R and New Overnight Express Air Cargo Sorting and Distribution Facility, and Associated Developments, Funding, NPDES and COE Section 404 Permit, City of Greensboro, Guilford County, NC, Due: June 22, 2000, Contact: Donna M. Meyer (404) 305-7150. Revision of FR notice published on 05/19/2000: CEQ Comment Date has been Extended from 06/07/2000 to 06/22/2000.

Dated: June 6, 2000.
Ken Mittelholtz,
Environmental Protection Specialist, Office of Federal Activities.

[FR Doc. 00-14668 Filed 6-8-00; 8:45 am]

BILLING CODE 6560-50-U